DEPARTMENT OF HOUSING AND URBAN DEVELOPMENT

[Docket No. FR-5274-N-01]

Notice of HUD-Held Multifamily and Healthcare Loan Sale

AGENCY: Office of the Assistant Secretary for Housing—Federal Housing Commissioner, HUD.

ACTION: Notice of sale of mortgage loan.

SUMMARY: This notice announces HUD's intention to sell an unsubsidized multifamily mortgage loan, without Federal Housing Administration (FHA) insurance, in a competitive, sealed bid sale (Pool 101 of MHLS 2009-1). This notice also describes generally the bidding process for the sale and certain persons who are ineligible to bid.

DATES: For Pool 101 of MHLS 2009-1, the Bidder's Information Package (BIP) was made available to qualified bidders on November 20, 2008. Bids for the loan must be submitted on the bid date, which is currently scheduled for December 19, 2008. HUD anticipates that an award will be made on or before December 22, 2008. The sale closing is expected to take place on December 30, 2008.

ADDRESSES: To become a qualified bidder and receive the BIP, prospective bidders must complete, execute, and submit a Confidentiality Agreement and a Qualification Statement acceptable to HUD. Both documents will be available on the HUD Web site at http://www.hud.gov/fhaloansales.cfm. The executed documents must be mailed and faxed to DebtX at: The Debt Exchange, 133 Federal Street, 10th Floor, Boston, MA 02111, Attention: MHLS 2009-1 Sale Coordinator, Fax 1-617-531-3499.

FOR FURTHER INFORMATION CONTACT: John Lucey, Deputy Director, Asset Sales Office, Room 3136, Department of Housing and Urban Development, 451 Seventh Street, SW., Washington, DC 20410-8000; telephone 202-708-2625, extension 3927. Individuals with hearing or speech impairments may call 202-708-4594 (TTY). These are not toll-free numbers.

SUPPLEMENTARY INFORMATION: HUD announces its intention to sell in Pool 101 of MHLS 2009-1 an unsubsidized mortgage loan (Mortgage Loan) secured by a multifamily property located in Columbus, Ohio. The Mortgage Loan is non-performing. The Mortgage Loan will be sold without FHA insurance and with servicing released. HUD will offer qualified bidders an opportunity to bid competitively on the Mortgage Loan.

The mortgagor, if it is a qualified bidder, may submit a bid on the Mortgage Loan. If interested, the Mortgagor should review the Qualification Statement to determine whether it may be eligible to qualify to submit a bid for Pool 101 of MHLS 2009-1.

The Bidding Process

The BIP will describe in detail the procedure for bidding in Pool 101 of MHLS 2009-1. The BIP or its supplement(s) will also include a standardized nonnegotiable loan sale agreement (Loan Sale Agreement). As part of its bid, each bidder must submit a deposit equal to the greater of $100,000 or 10 percent of the bid price. In the event the bidder's bid is less than $100,000.00, the minimum deposit shall be not less than fifty percent of the bidder's bid. HUD will evaluate the bids submitted and determine the successful bid in its sole and absolute discretion. If a bidder is successful, the bidder's deposit will be non-refundable and will be applied toward the purchase price. Deposits will be returned to unsuccessful bidders. The Closing for Pool 101 of MHLS 2009-1 is scheduled for December 30, 2008.

These are the essential terms of sale. The Loan Sale Agreement, which will be included in the BIP or its supplement(s), will contain additional terms and details. To ensure a competitive bidding process, the terms of the bidding process and the Loan Sale Agreement are not subject to negotiation.

Due Diligence Review

The BIP will describe the due diligence process for reviewing loan files in Pool 101 of MHLS 2009-1. Qualified bidders will be able to access loan information remotely via a high-speed Internet connection. Further information on performing due diligence review of the Mortgage Loans will be provided in the BIP.

Mortgage Loan Sale Policy

HUD reserves the right to reject any and all bids, in whole or in part, without prejudice to HUD's right to include this Mortgage Loan in a later sale. The Mortgage Loan will not be withdrawn after the Award Date except as is specifically provided in the Loan Sale Agreement.

This is a sale of an unsubsidized mortgage loan, pursuant to Section 204(a) of the Departments of the Department of Veterans Affairs and Housing and Urban Development, and Independent Agencies Appropriations Act of 1997, 12 U.S.C. 1715z-11a(a).

Mortgage Loan Sale Procedure

HUD selected a competitive sale as the method to sell the Mortgage Loan. This method of sale optimizes HUD's return on the sale of this Mortgage Loan, affords the greatest opportunity for all qualified bidders to bid on the Mortgage Loan, and provides the quickest and most efficient vehicle for HUD to dispose of the Mortgage Loan.

Bidder Eligibility

In order to bid in the sale, a prospective bidder must complete, execute and submit both a Confidentiality Agreement and a Qualification Statement acceptable to HUD. The following individuals and entities are ineligible to bid on the Mortgage Loan included in Pool 101 of MHLS 2009-1:

(1) Any employee of HUD, a member of such employee's household, or an entity owned or controlled by any such employee or member of such an employee's household;

(2) Any individual or entity that is debarred, suspended, or excluded from doing business with HUD pursuant to Title 24 of the Code of Federal Regulations, Part 24, and Title 25 of the Code of Federal Regulations, Part 2424;

(3) Any contractor, subcontractor and/or consultant or advisor (including any agent, employee, partner, director, principal or affiliate of any of the foregoing) who performed services for or on behalf of HUD in connection with Pool 101 of MHLS 2009-1;

(4) Any individual who was a principal, partner, director, agent or employee of any entity or individual described in subparagraph 3 above, at any time during which the entity or individual performed services for or on behalf of HUD in connection with Pool 101 of MHLS 2009-1;

(5) Any individual or entity that uses the services, directly or indirectly, of any person or entity ineligible under subparagraphs 1 through 4 above to assist in preparing any of its bids on the Mortgage Loan;

(6) Any individual or entity which employs or uses the services of an employee of HUD (other than in such employee's official capacity) who is involved in Pool 101 of MHLS 2009-1;

(7) Any mortgagor (or affiliate of a mortgagor) that failed to submit to HUD on or before February 21, 2008, audited financial statements for fiscal years 1999 through 2007 for a project securing a Mortgage Loan;

(8) Any individual or entity and any Related Party (as such term is defined in the Qualification Statement) of such individual or entity that is a mortgagor in any of HUD's multifamily housing programs and that is in default under such mortgage loan or is in violation of any regulatory or business agreements with HUD, unless such default or violation is cured on or before December 9, 2008;

(9) Any entity or individual that serviced or held the Mortgage Loan at any time during the 2-year period prior to December 1, 2008, is ineligible to bid on the Mortgage Loan or on the pool containing such Mortgage Loan; and

(10) Any affiliate or principal of any entity or individual described in the preceding sentence (subparagraph 9); any employee or subcontractor of such entity or individual during that 2-year period; or any entity or individual that employs or uses the services of any other entity or individual described in this subparagraph in preparing its bid on such Mortgage Loan.

Prospective bidders should carefully review the Qualification Statement to determine whether they are eligible to submit bids on the Mortgage Loan in Pool 101 of MHLS 2009-1.

Eligible Bidders With Respect to Pool 101 of MHLS 2009-1

Notwithstanding the foregoing, in order to bid on Pool 101 of MHLS 2009-1, bidders must be a Non-Profit entity, Housing Finance Authority, or a unit of local government.

Freedom of Information Act Requests

HUD reserves the right, in its sole and absolute discretion, to disclose information regarding Pool 101 of MHLS 2009-1, including, but not limited to, the identity of any successful bidder and its bid price or bid percentage for the loan, upon the closing of the sale. Even if HUD elects not to publicly disclose any information relating to Pool 101 of MHLS 2009-1, HUD will have the right to disclose any information that HUD is obligated to disclose pursuant to the Freedom of Information Act and all regulations promulgated thereunder.

Scope of Notice

This notice applies to Pool 101 of MHLS 2009-1 and does not establish HUD's policy for the sale of other mortgage loans.

Dated: December 12, 2008.
Brian D. Montgomery,
Assistant Secretary for Housing—Federal Housing Commissioner.

[FR Doc. E8-30177 Filed 12-16-08; 4:15 pm]

BILLING CODE 4210-67-P